Proclamation 10555 of April 21, 2023

National Crime Victims' Rights Week, 2023

By the President of the United States of America

A Proclamation

Every person deserves to feel safe in their home, school, workplace, and community. Yet each year, millions of Americans fall victim to acts of violence, theft, fraud, and other crimes. Often, the pain and trauma can have long-term impacts. During National Crime Victims' Rights Week, we recommit to the work of preventing crime, supporting victims as they heal, and holding offenders accountable.

Beyond the physical, psychological, and emotional scars, victims and their families too often bear the economic burden of the crimes they suffered—such as lost income, medical bills, or expenses for temporary housing. As a United States Senator, I was proud to support the Victims of Crime Act in 1984, which created a Crime Victims Fund using fines from Federal prosecutions to directly compensate victims and finance victim assistance services. In recent years, the fund's balance declined significantly, so I signed a bill in 2021 to rebuild it and ensure that victims can access these critical resources.

Last year, I also reauthorized and strengthened the Violence Against Women Act (VAWA), which I first wrote as a United States Senator more than 30 years ago to change the laws and culture around the scourge of domestic and sexual violence in America. For decades, this law has supported shelters and rape crisis centers; funded housing and legal assistance for survivors of abusive relationships, sexual assault, and stalking; and helped train law enforcement agencies and courts to make the justice system more responsive to survivors' needs.

As President, I increased funding for VAWA to its highest level so that we can hold more offenders accountable and allow more victims to access trauma-informed care—especially victims from underserved communities, including those from the LGBTQI+ community and rural areas. Tribal courts will now be able to exercise jurisdiction over non-Native perpetrators of sexual assault, child abuse, and sex trafficking. The law also enables victims to take people who disseminate their intimate images without consent to court, and it provides training for law enforcement, prosecutors, and victim service providers in addressing online abuse and cyberstalking.

I signed into law the COVID-19 Hate Crimes and Khalid Jabara-Heather Heyer NO HATE Acts, which help State, local, and Tribal law enforcement agencies better track and prosecute hate-fueled acts of violence against people from marginalized groups, including by establishing state-run reporting hotlines for victims of hate crimes. We also made lynching a Federal hate crime for the first time in American history with the Emmett Till Antilynching Act, giving prosecutors more power to pursue perpetrators of these vile acts. I also hosted the United We Stand Summit, convening civic, faith, philanthropic, and business leaders to prevent and respond to hate crimes, and to help survivors of hate crimes and their communities heal from these tragic events.

While my Administration continues to take historic action to reduce gun crime, we are also taking action to help survivors of gun violence and families that have lost loved ones to this public health epidemic. Last June, I was proud to sign the Bipartisan Safer Communities Act, the most sweeping gun safety law in nearly three decades. Among other steps, this law helps keep guns out of the hands of dating partners convicted of violent crimes and provides over a billion dollars to address the youth mental health crisis in America, especially trauma experienced by survivors of gun violence. In March 2023, I signed an Executive Order directing key members of my Cabinet to submit a proposal for improving Federal support for communities and individuals impacted by gun violence.

Supporting crime victims also requires building trust between the public and law enforcement. When someone falls victim to a crime, first responders should have the resources they need to ensure victims feel heard, valued, and supported. We have provided States with over $10 billion to improve law enforcement training, fund community violence interventions, purchase necessary equipment like body-worn cameras, clear court backlogs, and support crime victims. My Safer America Plan calls for an additional $37 billion to prevent crime, reduce gun violence, and create a fairer justice system—including by hiring 100,000 more officers for safe, effective, and accountable community policing, consistent with the standards of my policing Executive Order, which will also help strengthen public trust in law enforcement.

This week and every week, let us all commit to doing our part to help prevent crimes and to provide survivors with the resources they need to heal, pursue justice, and emerge stronger. If you or a loved one are a victim of crime, I encourage you to visit www.Crimevictims.gov.

NOW, THEREFORE, I, JOSEPH R. BIDEN JR., President of the United States of America, by virtue of the authority vested in me by the Constitution and the laws of the United States, do hereby proclaim April 23 through April 29, 2023, as National Crime Victims' Rights Week. I call upon all Americans to observe this week by participating in events that raise awareness of victims' rights and services and by volunteering to serve and support victims in their time of need.

IN WITNESS WHEREOF, I have hereunto set my hand this twenty-first day of April, in the year of our Lord two thousand twenty-three, and of the Independence of the United States of America the two hundred and forty-seventh.

[FR Doc. 2023-08937

Filed 4-25-23; 8:45 am]

Billing code 3395-F3-P